DEPARTMENT OF EDUCATION

34 CFR Chapter III

[Docket ID ED-2024-OSERS-0012]

State Personnel Development Grants

AGENCY: Office of Special Education and Rehabilitative Services, Department of Education.

ACTION: Final priorities and requirements.

SUMMARY: The Department of Education (Department) announces final priorities and requirements under the State Personnel Development Grants (SPDG) program. The Department may use one or more of these priorities and requirements for competitions in fiscal year (FY) 2024 and later years. We take this action to focus attention on assisting States in reforming and improving their systems for personnel preparation and personnel development in order to improve results for children with disabilities.

DATES: These priorities and requirements are effective August 8, 2024.

FOR FURTHER INFORMATION CONTACT: Jennifer Coffey, U.S. Department of Education, 400 Maryland Avenue SW, Room 4A10, Washington, DC 20202. Telephone: (202) 987-0150. Email: jennifer.coffey@ed.gov.

If you are deaf, hard of hearing, or have a speech disability and wish to access telecommunications relay services, please dial 7-1-1.

SUPPLEMENTARY INFORMATION:

Purpose of Program: The purpose of the SPDG program is to assist State educational agencies (SEAs) in reforming and improving their systems for personnel preparation and professional development in early intervention, educational, and transition services to improve results for children with disabilities.

Assistance Listing Number: 84.323A.

Program Authority: 20 U.S.C. 1451-1455.

We published a notice of proposed priorities and requirements (NPP) for this program in the Federal Register on March 28, 2024 (89 FR 21469). That document contained background information and the Department's reasons for proposing the priorities and requirements.

Public Comment: In response to our invitation in the NPP, three parties submitted comments addressing the priorities, requirements, and directed questions. We discuss comments related to the priorities and requirements under each priority to which they pertain. Generally, we do not address technical and other minor changes, or suggested changes the law does not authorize us to make under the applicable statutory authority. In addition, we do not address general comments that raised concerns not directly related to the proposed priorities or requirements.

Analysis of Comments and Changes: An analysis of the comments and of any changes in the priorities or requirements since publication of the NPP follows.

Comment: In response to the Department's directed question regarding challenges to developing and supporting grow your own (GYO) programs, one commenter enumerated challenges at the State, district, and participant level. At the State level, the commenter identified the lack of sufficient funding to expand the program and fund personnel to oversee programmatic and fiscal requirements as a major challenge. At the district level, the commenter noted that finding candidates to participate in the programs and securing sufficient funding and resources, including time for oversight, were major challenges, along with the absence of coaching for GYO participants. In addition, the commenter stated that rural districts struggle with a small candidate pool.

The commenter shared that GYO participants have challenges maintaining employment while completing their coursework, are not readily able to pay for tuition, struggle to successfully complete college-level coursework, and have difficulty passing entrance and subject area exams, and managing responsibilities in the home, work duties, and college coursework.

Discussion: The Department appreciates learning about the potential challenges faced at each level of the education system and will provide support to SPDG projects to help ensure they foresee these challenges and provide supports for GYO districts, schools, and participants.

Changes: None.

Comment: In response to the Department's directed question regarding supports that would assist SEAs in developing and implementing career pathways for those interested in becoming fully certified special education teachers, one commenter shared that the following supports would be helpful: funding, additional partners to coordinate program management, exemplar pathway models that include programmatic recommendations, and recruitment and retention resources that support successful program completion. The commenter shared it would be helpful for SEAs to receive technical assistance (TA) and targeted coaching that supports building and implementing pathways for special education personnel.

Discussion: An SEA may use their SPDG resources to provide the supports described by the commenter in the implementation of a GYO, teacher residency, or registered teacher apprenticeship program. As for support for the SEAs, the Department currently provides TA and targeted coaching via the Collaboration for Effective Educator Development, Accountability, and Reform Center (CEEDAR Center).

Changes: None.

Comment: One commenter responded to the Department's question about supports that would help SEAs develop and implement a system to address the professional learning and certification needs of personnel with an emergency certification who work with children with disabilities. The commenter shared that longitudinal studies that track candidates from preparation through their fifth year of teaching and that assess outcomes such as teacher efficacy, teacher retention, and student outcomes would support SEAs in understanding the specific needs of teachers based on various certification pathways. These data would also allow SEAs and their partners to anticipate and create structures to support the professional learning needs of teachers pursuing various certification pathways.

Discussion: We agree that modernized statewide longitudinal data systems (SLDS) can be a valuable tool in identifying and addressing the professional learning and certification needs of personnel, including by providing the ability to respond to policy needs, such as addressing the professional learning and certification needs of personnel with an emergency certification and understanding the educator pipeline and its impact. We encourage SPDG grantees to take opportunities to modernize their SLDS. To date, 34 States have used SLDS funds to establish linkages between K-12, postsecondary, and workforce data. For more information about SLDS grant opportunities, please visit https://nces.ed.gov/programs/slds/grant_information.asp.

Changes: None.

Comment: In response to the Department's directed question about which stakeholders SEAs should collaborate with to develop and implement a system to address the professional learning and certification needs of personnel with an emergency certification who work with children with disabilities, one commenter stated SEAs should collaborate with educator preparation programs to enhance traditional teacher preparation programs and partner in supporting GYO, teacher residency, and registered teacher apprenticeship programs. The commenter also stated that SEAs should partner with LEAs and professional organizations for education leaders, including special education directors, elementary and secondary school principals, and other school administrators, to identify the needs of teachers and to provide targeted resources and supports.

In addition, the commenter stated that SEAs should engage with national TA centers to stay informed of evidence-based practices for effective pre-service preparation and in-service supports, as well as to partner with their parent and training information center to train teachers on the parent perspective and how to effectively engage and partner with families.

Discussion: The Department thanks the commenter for these thoughtful recommendations. Under section 653(b) of the Individuals with Disabilities Education Act (IDEA), the State personnel development plan must describe how the applicant will work in partnership with agencies and programs addressing the education of children and youth with disabilities to strengthen the project's efforts. The partners suggested by the commenter are all required or permitted partners under section 652(b) of the IDEA, and we agree that they may serve as important collaborators. Additionally, one of the Final Common Requirements is that a project must align with and integrate other State initiatives and programs, as well as district and local improvement plans, to leverage existing professional development and data systems.

Changes: None.

Comment: One commenter recommended the Department incentivize SEAs to develop programs that include educational audiologists and speech-language pathologists.

Discussion: Educational audiologists and speech-language pathologists are included in the definition of “personnel” used by the SPDG program (section 651(b) of the IDEA). Accordingly, applicants may propose to include educational audiologists and speech-language pathologists in SPDG professional development activities.

Changes: None.

Comment: One commenter recommended that the Department use the SPDG program to incentivize appropriate workloads for personnel, suggesting that using SPDG funds to analyze and right-size educator workload will increase the likelihood that students receive the most appropriate supports to meet their educational and functional goals.

Discussion: SPDG funds are used to address specific State-identified needs. The notice inviting applications for the FY 2024 SPDG competition, published elsewhere in this issue of the Federal Register, provides examples of activities that may be funded with an SPDG grant, including the use of funds to support reduced class schedules and caseloads.

Changes: None.

Comment: One commenter, responding to Proposed Priority 1, recommended SEAs and institutions of higher education collaborate to provide grant programs and scholarships for high school students to begin working toward paraprofessional and teacher certification.

Discussion: The SPDG may be used to support collaborative recruitment efforts, including providing grant programs and scholarships for high school students to begin working toward paraprofessional and teacher certification. Per the Final Common Requirements, an applicant must describe the proposed in-State and national partners that the project will work with to achieve the goals and objectives of the grant and how the impact of these partnerships will be measured.

Changes: None.

Comment: One commenter shared that virtual reality simulations may enable pathway participants and other personnel to learn more about teaching children with disabilities and how to navigate complex situations.

Discussion: GYO, apprenticeships, and residency pathways and professional development programs may benefit from the use of virtual reality teaching simulations that allow personnel to practice important skills prior to using them with children. Nothing in Priority 1 would preclude an applicant from proposing to use this technology.

Changes: None.

Comment: Two commenters supported Proposed Priority 1 as a means to develop new and dynamic workforce pathways for the special education workforce system.

Discussion: The Department appreciates support for this priority.

Changes: None.

Comment: In response to Proposed Priority 2, one commenter recommended that SPDG projects use empathy interviews to identify barriers faced by personnel on their path to full certification.

Discussion: We agree that understanding barriers and facilitators to reaching full certification is an important aspect of improving personnel preparation and retention systems. SPDG projects may choose to use empathy interviews to gather formative data to help improve their services.

Changes: None.

Final Priorities

Priority 1: Providing Career Pathways for Those Interested in Becoming Fully Certified Special Education Teachers, Including Paraprofessionals, Through Residency, GYO, and Registered Apprenticeships Programs.

Projects designed to increase the number of fully certified special education teachers by establishing a new, or enhancing an existing, teacher residency, GYO, or registered teacher apprenticeship program that minimizes or eliminates the cost of certification for special education teacher candidates and provides opportunities for candidates to be paid, including being provided with a stipend (which, for programs that include paid experience for the duration of the certification program, can be met through paragraph (i), below), to cover the time spent gaining classroom experience during their certification program.

A project implementing a new or enhanced teacher residency, GYO, or registered teacher apprenticeship program must—

(a) Use data-driven strategies and evidence-based approaches to increase recruitment, successful completion, and retention of the special education teachers supported by the project;

(b) Provide standards for participants to enter into and complete the program;

(c) Be aligned to evidence-based (as defined in 34 CFR 77.1) practices for effective educator preparation;

(d) Have little to no financial burden for program participants, or provide for loan forgiveness, grants, or scholarship programs;

(e) Provide opportunities for candidates to be paid, including being provided with a stipend, to cover time spent in clinical experience during their certification program;

(f) Develop a plan to monitor program quality;

(g) Require completion of a bachelor's degree either before entering or as a result of the teacher residency, GYO, or teacher apprenticeship program;

(h) Result in the satisfaction of all requirements for full State teacher licensure or certification, excluding emergency, temporary, provisional, or other sub-standard licensure or certification;

(i) Provide increasing levels of responsibility for the resident/GYO participant/apprentice during at least one year of paid on-the-job learning/clinical experience, during which a mentor teacher is the teacher of record; and

(j) Develop a plan to ensure the program has funding after the end of the project period.

In their applications, States must describe how their projects will meet these program requirements. In addition to these requirements, to be considered for funding under this priority, applicants must meet the application and administrative requirements under Common Requirements.

Priority 2: Supporting Emergency Certified Special Education Teachers to Become Fully Certified.

Projects designed to increase the number of fully certified special education teachers by implementing plans that address the emergency certification needs of personnel who work with children with disabilities. The plans must—

(a) Identify the barriers and challenges to full certification that are experienced by special education personnel on emergency certifications;

(b) Include evidence-based (as defined in 34 CFR 77.1) strategies to address those barriers and challenges and assist special education personnel on emergency certifications to obtain full certification, consistent with State-approved or State-recognized requirements, within three years;

(c) Include training and coaching on, at a minimum—

(1) The skills needed to collaboratively develop, implement, and monitor standards-based IEPs;

(2) High-leverage and evidence-based instructional and classroom management practices; and

(3) The provision of wrap-around services (e.g., social, emotional, and mental health supports), special education services, and other supports for children with disabilities; and

(d) Provide participating special education personnel on emergency certifications with opportunities to apply the evidence-based skills and practices described in paragraph (c) in the classroom.

In their applications, States must describe how their projects will meet these program requirements. In addition to these requirements, to be considered for funding under this priority, applicants must meet the application and administrative requirements under Common Requirements.

Priority 3: Person-Centered IEPs that Support Instructional Progress.

Projects designed to provide pre-service and in-service training to school and district personnel, including IEP team members (e.g., special education and general education teachers, related service personnel who work with children with disabilities) and administrators, to improve their skills in developing and implementing person-centered IEPs that support instructional progress and improve functional outcomes ¹ for children with disabilities. Projects must—

¹ An IEP that supports instructional progress is an IEP that focuses on the academic, vocational, developmental, and social needs of the child and allows the child to benefit from instruction.

(a) Provide training and coaching to administrators and IEP team members to increase their ability to develop, implement, and monitor person-centered IEPs that support instructional progress so that they can—

(1) Use appropriate data to determine the child's instructional and functional strengths and needs;

(2) Increase the child's learning time and opportunities with general education peers, as appropriate, based on research;

(3) Choose and use evidence-based (as defined in 34 CFR 77.1) practices for core instruction; and

(4) Supplement core instruction with special education services.

In their applications, States must describe how their projects will meet these program requirements. In addition to these requirements, to be considered for funding under this priority, applicants must meet the application and administrative requirements under Common Requirements.

Priority 4: Principals as Instructional Leaders Who Support Collaborative Service Provision.

Projects designed to provide professional development to improve the instructional leadership provided by principals and other school leaders, district leaders, and teacher leaders to promote educational equity for children with disabilities. Projects must provide training and coaching to assist administrators to—

(a) Create and support equitable school schedules and other operations that enable collaborative services from general and special education staff;

(b) Support schoolwide inclusionary practices within a multi-tiered systems of support (MTSS) framework;

(c) Support evidence-based (as defined in 34 CFR 77.1) professional development for their staff related to—

(1) Effective content instruction;

(2) Data for decision-making and continuous progress monitoring;

(3) IEP development and implementation; and

(4) Wrap-around services;

(d) Actively engage families and school communities to identify and address concerns regarding, and barriers to, accessibility, equity, and inclusiveness, using frameworks such as universal design; and

(e) Provide administrators structured learning opportunities, such as through a cohort model, mentoring, one-on-one coaching, networking to build a professional community, and applied learning opportunities, such as problem-solving related to the needs of individual children.

In their applications, States must describe how their projects will meet these program requirements. In addition to these requirements, to be considered for funding under this priority, applicants must meet the application and administrative requirements under Common Requirements.

Priority 5: Improving Engagement between Schools and Families.

Projects designed to develop the capacity of administrators and educators to develop systems and use strategies that build trust and engagement with families, while further strengthening the role families play in their child's development and learning. Projects must—

(a) Provide training and coaching to assist administrators to—

(1) Develop and implement policies and programs that recognize families' funds of knowledge, connect family engagement to student learning, and create welcoming, inviting cultures; and

(2) Create systems that support staff and families in meaningful engagement (i.e., Leading by Convening and the Dual-Capacity Framework. For more information visit www.dualcapcity.org and www.ncsi.wested.org/resources/leading-by-convening);

(b) Provide training and coaching to assist educators and early intervention providers to—

(1) Build their knowledge, attitudes, beliefs, aspirations, and behaviors about effective strategies to engage families in their child's learning;

(2) Work with families to make collaborative, data-based decisions in the development and implementation of the child's IEP; and

(3) Provide information and resources to families that enable them to support their children's learning and behavior at home; and

(c) Provide training and coaching to families so they can—

(1) Meaningfully participate in the development and implementation of their child's IEP;

(2) Participate in data-based decision making related to their child's education; and

(3) Further their child's learning at home.

In their applications, States must describe how their projects will meet these program requirements. In addition to these requirements, to be considered for funding under this priority, applicants must meet the application and administrative requirements under Common Requirements.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This document does not preclude us from proposing additional priorities, requirements, definitions, or selection criteria, subject to meeting applicable rulemaking requirements.

Note: This document does not solicit applications. In any year in which we choose to use one or more of these priorities, we invite applications through a notice in the Federal Register.

Final Requirements

The Assistant Secretary establishes the following final requirements for this program. We may apply one or more of these requirements in any year in which this program is in effect.

Final Common Requirements

In addition to the requirements contained in these priorities, to be considered for funding, applicants must meet the following application and administrative requirements:

(a) Demonstrate, in the narrative section of the application under “Significance,” how the proposed project will—

(1) Align with and integrate other State initiatives and programs, as well as district and local improvement plans, to leverage existing professional development and data systems;

(2) Develop and implement plans to sustain the grant program after the grant funding has ended; and

(3) Integrate family engagement into all project efforts by supporting capacity building for personnel and families.

(b) Demonstrate, in the narrative section of the application under “Quality of Project Services,” how the proposed project will—

(1) Ensure equal access and treatment for members of groups that have traditionally been underrepresented based on race, color, national origin, gender, age, or disability. To meet this requirement, the applicant must describe how it will—

(i) Develop the knowledge and ability of personnel to be culturally responsive and engage children and families with a strengths-based approach;

(ii) Engage students, families, and community members to assess the appropriateness and impact of the intervention, program, or strategies; and

(iii) Review program procedures and resources to ensure a diversity of perspectives are brought into the project; and

(2) Achieve the project's goals and objectives. To meet this requirement, the applicant must provide—

(i) Either a logic model (as defined in 34 CFR 77.1) or theory of action (to be provided in appendix A), which demonstrates how the proposed project will achieve intended measurable outcomes;

(ii) A description of proposed in-State and national partners that the project will work with to achieve the goals and objectives of the grant and how the impact of these partnerships will be measured; and

(iii) A description of how the project will be based on current research and make use of evidence-based (as defined in 34 CFR 77.1) practices. To meet this requirement, the applicant must describe—

(A) The current research base for the chosen interventions;

(B) The evidence-based model or practices to be used in the project's professional development activities; and

(C) How implementation science will be used to support full and sustained use of evidence-based practices and result in sustained systems of implementation support.

(c) In the narrative section of the application under “Quality of the project evaluation,” include an evaluation plan for the project developed in consultation with and implemented by a third-party ² evaluator. The evaluation plan must—

² A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions should be related to the project's proposed logic model or theory of action required under paragraph (b)(2)(i) of these requirements;

(2) Describe how progress in and fidelity of implementation, as well as project outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model or theory of action and evaluation plan, including subsequent data collection;

(4) Provide a timeline for conducting the evaluation and include staff assignments for completing the plan. The timeline must indicate that the data will be available annually for the annual performance report to the Department; and

(5) Dedicate sufficient funds in each budget year to cover the costs of developing or refining the evaluation plan in consultation with a third-party evaluator, as well as the costs associated with the implementation of the evaluation plan by the third-party evaluator.

(d) Demonstrate, in the narrative section of the application under “Adequacy of resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits and funds will be spent in a way that increases their efficiency and cost-effectiveness, including by reducing waste or achieving better outcomes.

(e) Demonstrate, in the narrative section of the application under “Quality of the management plan,” how the proposed management plan will ensure that the project's intended outcomes will be achieved on time and within budget. To address this requirement, the applicant must describe—

(1) Clearly defined responsibilities for key project personnel, consultants, and subcontractors, as applicable;

(2) Timelines and milestones for accomplishing the project tasks;

(3) How key project personnel and any consultants and subcontractors will be allocated to the project and how these allocations are appropriate and adequate to achieve the project's intended outcomes; and

(4) How the proposed project will benefit from a diversity of perspectives, including those of families, educators, TA providers, researchers, and policy makers, among others, in its development and operation.

(f) Address the following application requirements. The applicant must—

(1) Include, in appendix A, personnel-loading charts and timelines, as applicable, to illustrate the management plan described in the narrative;

(2) Provide an assurance that any project website will include relevant information and documents in a form that meets a government or industry-recognized standard for accessibility;

(3) Include, in the budget, attendance at the following:

(i) An annual one and one-half day SPDG National Meeting in the Washington, DC area during each year of the project period; and

(ii) A three-day project directors' conference in Washington, DC, during each year of the project period, provided that, if the conference is conducted virtually, the project must reallocate unused travel funds no later than the end of the third quarter of each budget period; and

(4) Budget $6,000 annually for support of the SPDG program network and website currently administered by the University of Oregon (www.signetwork.org).

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every 3 years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities or the principles stated in the Executive order, as specifically authorized in a timely manner by the Administrator of OIRA in each case.

This final regulatory action is not a significant regulatory action subject to review by OMB under section 3(f) of Executive Order 12866 (as amended by Executive Order 14094). Pursuant to the Congressional Review Act (5 U.S.C. 801 et seq.), the Office of Information and Regulatory Affairs designated this rule as not a “major rule,” as defined by 5 U.S.C. 804(2).

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities and requirements only on a reasoned determination that their benefits justify the costs. In choosing among alternative regulatory approaches, we selected the approach that maximizes net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Discussion of Potential Costs and Benefits

The Department believes that the costs associated with the final priorities and requirements will be minimal, while the potential benefits are significant. The Department believes that this regulatory action does not impose significant costs on eligible entities. Participation in this program is voluntary, and the costs imposed on applicants by this regulatory action will be limited to paperwork burden related to preparing an application. The benefits of implementing the program will outweigh the costs incurred by applicants, and the costs of carrying out activities associated with the application will be paid for with program funds. For these reasons, we have determined that the costs of implementation will not be burdensome for eligible applicants, including small entities.

Paperwork Reduction Act of 1995

The final priorities, including requirements, contain information collection requirements that are approved by OMB under OMB control number 1820-0028; the final priorities, including requirements, do not affect the currently approved data collection.

Regulatory Flexibility Act Certification: The Secretary certifies that this final regulatory action will not have a significant economic impact on a substantial number of small entities. The U.S. Small Business Administration (SBA) Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000. Participation in the SPDG program is voluntary. In addition, the only eligible entities for this program are SEAs, which do not meet the definition of a small entity. For these reasons, the final priorities and requirements will not impose any additional burden on small entities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of the Department's specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Glenna Wright-Gallo,
Assistant Secretary for Special Education and Rehabilitative Services.

[FR Doc. 2024-15047 Filed 7-5-24; 11:15 am]

BILLING CODE 4000-01-P